DEPARTMENT OF ENERGY

Federal Energy Regulatory Commission

Combined Notice of Filings #1

Take notice that the Commission received the following exempt wholesale generator filings:

Docket Numbers: EG18-73-000.

Applicants: Calpine Mid-Merit II, LLC.

Description: Notice of Self-Certification of Exempt Wholesale Generator Status.

Filed Date: 4/9/18.

Accession Number: 20180409-5319.

Comments Due: 5 p.m. ET 4/30/18.

Take notice that the Commission received the following electric rate filings:

Docket Numbers: ER10-2042-026; ER10-1858-005; ER10-1862-020; ER10-1870-005; ER10-1873-009; ER10-1875-009; ER10-1876-009; ER10-1878-009; ER10-1883-009; ER10-1884-009; ER10-1885-009; ER10-1888-009; ER10-1889-005; ER10-1893-020; ER10-1895-005; ER10-1934-020 ER10-1938-021; ER10-1941-009; ER10-1942-018; ER10-1944-005; ER10-1947-009; ER10-2029-009; ER10-2036-008; ER10-2040-007; ER10-2041-007; ER10-2042-026; ER10-2043-007 ER10-2044-007; ER10-2051-007; ER10-2985-024; ER10-3049-025; ER10-3051-025; ER10-3260-007; ER11-4369-005 ER12-1987-007; ER12-2261-008; ER12-2645-002; ER13-1401-005; ER13-1407-006; ER14-2931-005; ER15-748-003 ER16-2218-005; ER17-696-006.

Applicants: Calpine Energy Services, L.P., Bethpage Energy Center 3, LLC, Calpine Bethlehem, LLC, Calpine Construction Finance Company, LP, Calpine Energy Solutions, LLC, Calpine Fore River Energy Center, LLC, Calpine Gilroy Cogen, L.P., Calpine Mid-Atlantic Generation, LLC, Calpine Mid-Atlantic Marketing, LLC, Calpine Mid-Merit, LLC, Calpine New Jersey Generation, LLC, Calpine Power America-CA, LLC, Calpine Vineland Solar, LLC, CCFC Sutter Energy, LLC, CES Marketing IX, LLC, CES Marketing X, LLC, Champion Energy Marketing LLC, Champion Energy Services, LLC, Champion Energy, LLC, CPN Bethpage 3rd Turbine, Inc., Creed Energy Center, LLC, Delta Energy Center, LLC, Garrison Energy Center LLC, Geysers Power Company, LLC, Gilroy Energy Center, LLC, Goose Haven Energy Center, LLC, Granite Ridge Energy, LLC, KIAC Partners, Los Esteros Critical Energy Facility LLC, Los Medanos Energy Center, LLC, Metcalf Energy Center, LLC, Nissequogue Cogen Partners, North American Power and Gas, LLC, North American Power Business, LLC, O.L.S. Energy-Agnews, Inc., Otay Mesa Energy Center, LLC, Pastoria Energy Facility, L.L.C., Power Contract Financing, L.L.C., Russell City Energy Company, LLC, TBG Cogen Partners, Westbrook Energy Center, LLC, Zion Energy LLC.

Description: Notification of Change in Status of the Calpine MBR Sellers.

Filed Date: 4/9/18.

Accession Number: 20180409-5337.

Comments Due: 5 p.m. ET 4/30/18.

Docket Numbers: ER11-4267-011; ER10-2738-005; ER11-113-012 ER11-4269-012; ER11-4270-011; ER11-4694-008 ER12-1680-009; ER14-1282-002; ER15-2631-007 ER16-2196-001; ER16-2364-003; ER16-2412-006 ER16-2703-004; ER17-2084-002; ER17-692-002.

Applicants: Algonquin Energy Services Inc., Algonquin Power Sanger LLC, Algonquin Power Windsor Locks LLC, Algonquin SKIC 20 Solar, LLC, Algonquin SKIC 10 Solar, LLC, Algonquin Tinker Gen Co., Deerfield Wind Energy, LLC, GSG 6, LLC, Liberty Utilities (Granite State Electric) Corp., Luning Energy LLC, Minonk Wind, LLC, Odell Wind Farm, LLC, Sandy Ridge Wind, LLC, The Empire District Electric Company, Great Bay Solar I, LLC.

Description: Notice of Change in Status of Algonquin Energy Services Inc., et. al.

Filed Date: 4/9/18.

Accession Number: 20180409-5333.

Comments Due: 5 p.m. ET 4/30/18.

Docket Numbers: ER18-483-001.

Applicants: Public Service Company of Colorado.

Description: Tariff Amendment: 20180409_Depreciation Filing_Indefinite Deferral to be effective 12/31/9998.

Filed Date: 4/9/18.

Accession Number: 20180409-5290.

Comments Due: 5 p.m. ET 4/30/18.

Docket Numbers: ER18-483-002.

Applicants: Public Service Company of Colorado.

Description: Tariff Amendment: 20180410_Depreciation—Correction to Deferral to be effective 12/31/9998.

Filed Date: 4/10/18.

Accession Number: 20180410-5200.

Comments Due: 5 p.m. ET 5/1/18.

Docket Numbers: ER18-1325-000.

Applicants: Foote Creek IV, LLC.

Description: § 205(d) Rate Filing: Second Revised MBR Tariff to be effective 4/10/2018.

Filed Date: 4/9/18.

Accession Number: 20180409-5255.

Comments Due: 5 p.m. ET 4/30/18.

Docket Numbers: ER18-1326-000.

Applicants: Southwest Power Pool, Inc.

Description: § 205(d) Rate Filing: Revisions to Attachment X Appendix C Letter of Credit to be effective 6/8/2018.

Filed Date: 4/9/18.

Accession Number: 20180409-5256.

Comments Due: 5 p.m. ET 4/30/18.

Docket Numbers: ER18-1327-000.

Applicants: Ridge Crest Wind Partners, LLC.

Description: § 205(d) Rate Filing: Second Revised MBR Tariff to be effective 4/10/2018.

Filed Date: 4/9/18.

Accession Number: 20180409-5269.

Comments Due: 5 p.m. ET 4/30/18.

Docket Numbers: ER18-1328-000.

Applicants: Wheelabrator Ridge Energy Inc.

Description: § 205(d) Rate Filing: Revised MBR Tariff to be effective 4/10/2018.

Filed Date: 4/9/18.

Accession Number: 20180409-5275.

Comments Due: 5 p.m. ET 4/30/18.

Docket Numbers: ER18-1329-000.

Applicants: Wheelabrator South Broward Inc.

Description: § 205(d) Rate Filing: Revised MBR Tariff to be effective 4/10/2018.

Filed Date: 4/9/18.

Accession Number: 20180409-5280.

Comments Due: 5 p.m. ET 4/30/18.

Docket Numbers: ER18-1330-000.

Applicants: ITC Midwest LLC.

Description: § 205(d) Rate Filing: Concurrence IPL Amended Exhibits and Attachments (2018) to be effective 6/8/2018.

Filed Date: 4/10/18.

Accession Number: 20180410-5081.

Comments Due: 5 p.m. ET 5/1/18.

Docket Numbers: ER18-1331-000.

Applicants: PacifiCorp.

Description: Compliance filing: OATT Revised Attachments N & O (Order 842) to be effective 5/15/2018.

Filed Date: 4/10/18.

Accession Number: 20180410-5114.

Comments Due: 5 p.m. ET 5/1/18.

Docket Numbers: ER18-1332-000.

Applicants: PJM Interconnection, L.L.C.

Description: § 205(d) Rate Filing: Original ISA No. 4963; Queue No. V4-027/AC2-170 and Cancellation WMPA No. 2713 to be effective 3/12/2018.

Filed Date: 4/10/18.

Accession Number: 20180410-5115.

Comments Due: 5 p.m. ET 5/1/18.

Docket Numbers: ER18-1333-000.

Applicants: Midcontinent Independent System Operator, inc.

Description: § 205(d) Rate Filing: 2018-04-10_SA 3037 Pine River Wind-METC 1st Revised GIA (J589 J794) to be effective 3/27/2018.

Filed Date: 4/10/18.

Accession Number: 20180410-5142.

Comments Due: 5 p.m. ET 5/1/18.

Docket Numbers: ER18-1334-000.

Applicants: Pacific Gas and Electric Company.

Description: § 205(d) Rate Filing: E&P Agreement for Elkhorn Energy Storage to be effective 4/11/2018.

Filed Date: 4/10/18.

Accession Number: 20180410-5157.

Comments Due: 5 p.m. ET 5/1/18.

Docket Numbers: ER18-1335-000.

Applicants: PJM Interconnection, L.L.C.

Description: § 205(d) Rate Filing: Original WMPA SA No. 5042; Queue No. AC2-045 to be effective 3/13/2018.

Filed Date: 4/10/18.

Accession Number: 20180410-5159.

Comments Due: 5 p.m. ET 5/1/18.

Docket Numbers: ER18-1336-000.

Applicants: Ampex Energy, LLC.

Description: Notice of cancellation of market based tariff of Ampex Energy, LLC.

Filed Date: 4/10/18.

Accession Number: 20180410-5185.

Comments Due: 5 p.m. ET 5/1/18.

Take notice that the Commission received the following electric securities filings:

Docket Numbers: ES18-27-000.

Applicants: American Transmission Company LLC.

Description: Application of American Transmission Company LLC under Section 204 of the Federal Power Act.

Filed Date: 4/10/18.

Accession Number: 20180410-5189.

Comments Due: 5 p.m. ET 5/1/18.

Take notice that the Commission received the following public utility holding company filings:

Docket Numbers: PH18-8-000.

Applicants: Sempra Energy.

Description: FERC 65B Notice of Material Change in Facts and FERC 65 Notification of Holding Company Status of Sempra Energy.

Filed Date: 4/9/18.

Accession Number: 20180409-5318.

Comments Due: 5 p.m. ET 4/30/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 10, 2018.
Nathaniel J. Davis, Sr.,
Deputy Secretary.

[FR Doc. 2018-07880 Filed 4-13-18; 8:45 am]

BILLING CODE 6717-01-P